DEPARTMENT OF TRANSPORTATION

National Highway Traffic Safety Administration

[Docket No. NHTSA-2008-0014]

Reports, Forms, and Recordkeeping Requirements

AGENCY: National Highway Traffic Safety Administration (NHTSA), Department of Transportation (DOT).

ACTION: Request for public comment on proposed collection of information.

SUMMARY: This notice solicits public comment on continuation of the requirements for the collection of information on safety standards. Before a Federal agency can collect certain information from the public, it must receive approval from the Office of Management and Budget (OMB). Under procedures established by the Paperwork Reduction Act of 1995, before seeking approval, Federal agencies must solicit public comment on proposed collections of information, including extensions and reinstatement of previously approved collections.

This document describes a collection of information associated with 49 CFR Part 574, Tire Identification and Recordkeeping.

DATES: Comments must be received on or before January 8, 2009.

ADDRESSES: Comments must refer to the docket notice number cited at the beginning of this notice, and the OMB control number, 2127-0050, and be submitted to the Office of Information and Regulatory Affairs, Office of Management and Budget, Attn: Desk Officer for NHTSA, 725 17th Street, NW., Washington, DC 20503. It is requested, but not required, that 2 copies of the comment be provided.

Commenters may also, but are not required to, submit their comments to the docket number identified in the heading of this document by any of the following methods:

• Federal eRulemaking Portal: Go to http://www.regulations.gov. Follow the online instructions for submitting comments.

• Mail: Docket Management Facility, M-30, U.S. Department of Transportation, West Building, Ground Floor, Room W12-140, 1200 New Jersey Avenue, SE., Washington, DC 20590

• Hand Delivery or Courier: West Building Ground Floor, Room W12-140, 1200 New Jersey Avenue, SE., Washington, DC 20590, between 9 a.m. and 5 p.m. Eastern Time, Monday through Friday, except Federal holidays.

• Fax: (202) 493-2251.

You may call the Docket Management Facility at 202-366-9826.

Regardless of how you submit your comments, you should mention the docket number of this document.

FOR FURTHER INFORMATION CONTACT: Complete copies of each request for collection may be obtained from Mr. Jeff Woods, NVS-122, National Highway Traffic Safety Administration, 1200 New Jersey Ave., SE., Washington, DC 20590. Mr. Woods' telephone number is (202) 366-6206.

SUPPLEMENTARY INFORMATION: Under the Paperwork Reduction Act of 1995, before a proposed collection of information is submitted to OMB for approval, Federal agencies must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g. , permitting electronic submission of responses.

The agency published a Notice of Proposed Rulemaking (NPRM) on January 24, 2008 (73 FR 4157), in which we proposed revisions to the tire registration requirements in 49 CFR Part 574, Tire Identification and Recordkeeping, to allow electronic means for consumers, tire dealers, and tire manufacturers to register the first purchaser information of new tires. The notice also included the agency's announcement (at 4167) that it was preparing to submit a renewal request to OMB for a three-year extension of this previously-approved collection of information, and the agency provided a 60-day comment period for the public to submit comments on the renewal request and the agency's estimates of the burden associated with this collection of information.

The NPRM included the following proposed revisions to the Part 574 requirements to facilitate increased use of electronic means to collect tire registration information and to otherwise improve the rate of tire registration. Independent tire dealers could, in lieu of providing a paper registration form to consumers, voluntarily register the tires on behalf of the purchaser with the tire manufacturer using the internet or other electronic means as authorized by the tire manufacturer. Independent tire dealers could continue to provide paper registration forms to purchasers for them to mail to the tire manufacturer, or independent dealers would have the option of sending completed tire registration forms to the tire manufacturer on behalf of the purchaser. Figures 3a and 3b depicting the paper registration form for use by independent tire dealers were proposed to be deleted from Part 574, while the regulatory text would be amended to include all of the minimum requirements for the form in descriptive terms. The paper registration forms could also include tire registration Web site information, as authorized by the tire manufacturer, to enable purchasers to register their tires using the internet.

The NPRM also proposed amendments to Part 574 requirements for tire dealers that are owned or controlled by tire manufacturers by specifying that in addition to using to paper tire registration forms, these dealers may also use electronic means to transmit tire registration information to the tire manufacturer. Figure 4 depicting the paper registration form for use by company-controlled tire dealers was proposed to be deleted from Part 574, while the regulatory text would be amended to include all of the minimum requirements for the form in descriptive terms.

As described in the NPRM, prior interpretations of the Part 574 requirements issued by the agency had already provided allowances and guidance for tire dealers to use electronic means to register tires on behalf of consumers (for independent tire dealers) or as required by tire dealers under Part 574 (for company-controlled tire dealers). The revisions proposed in the NPRM would serve to codify in Part 574 the provisions for electronic means of tire registration by independent and company-controlled tire dealers. In addition, the proposed revisions to Part 574 would provide additional opportunities for tire purchasers (consumers) to register their tires using the internet, telephones, or other electronic means, as provided by tire manufacturers or their designees. Finally, the tire manufacturers would have additional flexibility in designing and printing the tire registration forms, as would tire dealers in providing their identifying information on the forms.

The proposed provisions in the NPRM for the electronic means of registering tires, including tire manufacturers providing tire registration Web sites, would be implemented on a voluntary basis by the tire manufacturers and tire dealers. There would be no obligation for independent tire dealers to register the tires on behalf of the purchaser and these dealers could still continue to provide the purchaser with a paper tire registration form. In addition, if the independent tire dealer were to register the tires on behalf of the purchaser by either returning the paper tire registration form to the tire manufacturer or by using electronic means to register the information, the agency proposed that this voluntary service would be provided at no cost to the purchaser.

The Paperwork Reduction Act analysis in the NPRM included burden estimates for the tire registration and recordkeeping collection of information requirements in Part 574. These were the same burden estimates that were included in the agency's March 21, 2007 30-day notice (72 FR 13344) during the previous renewal of this information collection with OMB. The analysis in the NPRM indicated that the tire registration rate may increase in the future because of increased availability of electronic means for purchasers to register their tires, or because independent tire dealers may elect to voluntarily register tires on behalf of the purchaser. However, for the purposes of estimating the current burden associated with this information collection, the agency believed that whether a purchaser registered their tires by filling out the paper tire registration form, or typed this information in on a tire registration Web site, the amount of time required to provide the purchaser's name and address would be very roughly the same. Therefore, the agency did not revise (increase or decrease) the burden estimate associated with this collection of information.

After considering the comments to the NPRM, the agency published a final rule on November 28, 2008. The rule substantially adopts the proposal.

The agency did not receive any comments regarding the agency's burden estimates for this collection of information, and therefore, these same estimates are included in this notice. The purpose of this notice is to provide notice of the agency's intent to request a renewal of this collection of information with OMB and to seek public comments on this request in accordance with requirements in 5 CFR Part 1320. As noted above, commenters responding to this notice shall provide their comments directly to OMB, although they may also submit a copy of their comments to the docket where they will be available for public viewing.

Title: 49 CFR Part 574, Tire Identification and Recordkeeping.

OMB Control Number: 2127-0050.

Form Number: None.

Requested Expiration Date of Approval: Three years from approval date.

Type of Request: Extension of a currently approved collection.

Summary of the Collection of Information: 49 U.S.C. 30117(b) requires each tire manufacturer to collect and maintain records of the first purchasers of new tires. To carry out this mandate, 49 CFR Part 574 requires tire dealers and distributors to record the names and addresses of retail purchasers of new tires and the identification number(s) of the tires sold. A specific form is provided to tire dealers and distributors by tire manufacturers for recording this information. The completed forms are returned to the tire manufacturers where they are retained for not less than five years. Part 574 requires independent tire dealers and distributors to provide a registration form to consumers with the tire identification number already recorded and information identifying the dealer/distributor. The consumer can then record his/her name and address and return the form to the tire manufacturer. Additionally, motor vehicle manufacturers are required to record the names and addresses of the first purchasers (for purposes other than resale), together with the identification numbers of the tires on the new vehicles, and retain this information for not less than five years.

Description of the Need for the Information and the Proposed Use of the Information: The information is used by a tire manufacturer after it or the agency determines that some of its tires either fail to comply with an applicable safety standard or contain a safety related defect. With the information, the tire manufacturer can notify the first purchaser of the tire and provide them with any necessary information or instructions or remedy.

Without this information, efforts to identify the first purchaser of tires that have been determined to be defective or nonconforming pursuant to Sections 30118 and 30119 of Title 49 U.S.C. would be impeded. Further, the ability of the purchasers to take appropriate action in the interest of motor vehicle safety may be compromised.

Description of the Likely Respondents (Including Estimated Number and Proposed Frequency of Response to the Collection of Information): January 24, 2008 Federal Register Notice—In the 60-day notice announcing NHTSA's request for an extension to collect the tire registration and recordkeeping information, we estimated that the collection of information affects 10 million respondents annually. This group consists of approximately 20 tire manufacturers, 59,000 new tire dealers and distributors, and 10 million consumers who choose to register their tire purchases with tire manufacturers. A response is required by motor vehicle manufacturers upon each sale of a new vehicle and by non-independent tire dealers with each sale of a new tire. A consumer may elect to respond when purchasing a new tire from an independent dealer.

Estimate of the Total Annual Reporting and Recordkeeping Burden Resulting from the Collection of Information: The estimated burden is as follows:

New tire dealers and distributors: 59,000.

Consumers: 10,000,000.

Total tire registrations (manually): 54,000,000.

Total tire registration hours (manual): 225,000 hours.

Recordkeeping hours (manual): 25,000 hours.

Total annual tire registration and recordkeeping hours: 250,000 hours.

Authority: 44 U.S.C. 3506(c); delegation of authority at 49 CFR 1.50

Issued on: December 3, 2008.
Stephen R. Kratzke,
Associate Administrator for Rulemaking.

[FR Doc. E8-29052 Filed 12-8-08; 8:45 am]

BILLING CODE 4910-59-P